DEPARTMENT OF THE INTERIOR

Fish and Wildlife Service

50 CFR Part 17

[FWS-R1-ES-2009-0043; MO 92210-0-0008 B2]

Endangered and Threatened Wildlife and Plants; 12-Month Finding on a Petition To List the Mountain Whitefish in the Big Lost River, Idaho, as Endangered or Threatened; Correction

AGENCY: Fish and Wildlife Service, Interior.

ACTION: Notice of 12-month petition finding; correction.

SUMMARY: We, the U.S. Fish and Wildlife Service (Service), announced in our 12-month finding on a petition to list the mountain whitefish (Prosopium williamsoni) in the Big Lost River, Idaho, under the Endangered Species Act of 1973, as amended (Act), that listing was not warranted. Our finding published in the Federal Register on April 6, 2010, but two figures were omitted from the document. We now provide those two figures.

ADDRESSES: Our finding is available on the Internet at http://www.fws.gov/idaho, and also at http://www.regulations.gov at Docket No. FWS-R1-ES-2009-0043. Supporting documentation we used in preparing the finding is available for public inspection, by appointment, during normal business hours at the U.S. Fish and Wildlife Service, Idaho Fish and Wildlife Office, 1387 S. Vinnell Way, Room 368, Boise, ID 83709. We will accept any new information, materials, comments, or questions concerning this finding at any time at this address.

FOR FURTHER INFORMATION CONTACT: Acting State Supervisor, Idaho Fish and Wildlife Office (see ADDRESSES); by telephone at 208-378-5243; and by facsimile at 208-378-5262. Persons who use a telecommunications device for the deaf (TDD) may call the Federal Information Relay Service (FIRS) at 800-877-8339.

SUPPLEMENTARY INFORMATION:

Our announcement of a 12-month finding on a petition to list the mountain whitefish (Prosopium williamsoni) in the Big Lost River, Idaho, under the Act (16 U.S.C. 1531 et seq.) published in the Federal Register on April 6, 2010 (75 FR 17352), with minor errors we now correct in this document.

In the published notice, Figure 1 is mentioned two-thirds the way down the first column of page 17353, but the figure itself is omitted. Under the header Species Distribution and Habitat, the figure should be inserted at the end of the first paragraph.

In the published notice, Figure 2 is mentioned two-thirds the way down the second column of page 17353, but the figure itself is omitted. Under the header Distribution and Habitat Within the Big Lost River Basin, the figure should be inserted at the end of the paragraph.

Both figures are provided below.

BILLING CODE 4310-55-P

Dated: April 16, 2010.
Sara Prigan,
Federal Register Liaison, U.S. Fish and Wildlife Service.

[FR Doc. 2010-9247 Filed 4-21-10; 8:45 am]

BILLING CODE 4310-55-C